FEDERAL RESERVE SYSTEM

Change in Bank Control Notices; Acquisition of Shares of Bank or Bank Holding Companies; Correction

This notice corrects a notice (FR Doc. 04-25773) published on page 67913 of the issue for Monday, November 22, 2004.

Under the Federal Reserve Bank of Kansas City heading, the entry for Embry W. Williams, Jr., Amarillo, Texas, is revised to read as follows:

1. Embry W. Williams, Jr., Amarillo, Texas; Embry W. Williams, III, Richardson, Texas; and James David Williams, Kerrville, Texas; to acquire voting shares of Union Bancshares, Inc., Clayton, New Mexico, and thereby indirectly acquire voting shares of The First National Bank of New Mexico, Clayton, New Mexico.

Comments on this application must be received by December 6, 2004.

Board of Governors of the Federal Reserve System, November 26, 2004.
Robert deV. Frierson,
Deputy Secretary of the Board.

[FR Doc. 04-26458 Filed 11-30-04; 8:45 am]

BILLING CODE 6210-01-S